DEPARTMENT OF TRANSPORTATION

Federal Aviation Administration

14 CFR Parts 36, 43, 45, 48, 89, 91, 107, 108, 119, 133, 135, 137, and 146

[Docket No. FAA-2025-1908; Notice No. 25-07A]

RIN 2120-AL82

DEPARTMENT OF HOMELAND SECURITY

Transportation Security Administration

49 CFR Parts 1540 and 1544

RIN 1652-AA80

Normalizing Unmanned Aircraft Systems Beyond Visual Line of Sight Operations; Denial of Extension of Comment Period

AGENCY: Federal Aviation Administration (FAA), Department of Transportation (DOT); Transportation Security Administration (TSA), Department of Homeland Security (DHS).

ACTION: Notice of proposed rulemaking (NPRM); Denial of extension of comment period.

SUMMARY: This action denies requests for extension of the comment period for the notice of proposed rulemaking (NPRM) titled “Normalizing Unmanned Aircraft Systems Beyond Visual Line of Sight Operations” that was published in the Federal Register on August 7, 2025.

DATES: September 29, 2025.

ADDRESSES: The docket for the NPRM is available at https://www.regulations.gov/ under docket number FAA-2025-1908.

FOR FURTHER INFORMATION CONTACT: Michelle Ferritto, ARM-100, Federal Aviation Administration, 800 Independence Avenue SW, Washington, DC 20592; Phone: 844 359-6982; Email: 9-FAA-UAS-BVLOS-Rule@faa.gov.

SUPPLEMENTARY INFORMATION: On August 7, 2025, the Federal Aviation Administration (FAA) and the Transportation Security Administration (TSA) published a NPRM titled “Normalizing Unmanned Aircraft Systems Beyond Visual Line of Sight Operations” in the Federal Register (90 FR 38212; FAA Notice No. 25-07). In that document, FAA and TSA proposed performance-based regulations to enable the design and operation of unmanned aircraft systems (UAS) at low altitudes beyond visual line of sight (BVLOS) and for third-party services, including UAS Traffic Management, that support these operations. Congress directed the rapid development of this proposed rule in the FAA Reauthorization Act of 2024 knowing that it is needed to support the integration of UAS into the national airspace system. The comment period for the NPRM closes at the end of October 6, 2025.

Denial of Extension of Comment Period

Since publication of the NPRM, FAA has received two requests for extension of the comment period. Michael Ravnitsky ¹ asked for an extension of “10 days, or to provide a 20-day opportunity for reply comments.” Sky Sail Balloons ² requested a general extension of the comment period and suggested that FAA subdivide the rule for comment by area of concern. FAA and TSA have considered and hereby deny these requests.

¹ Comment from Michael Ravnitsky, Docket FAA-2025-1908-0025, Aug. 12, 2025.

² Comment from Sky Sail Balloons, Docket FAA-2025-1908-0065, Aug. 22, 2025.

On June 6, 2025, the President issued Executive Order 14307, “Unleashing American Drone Dominance”, which instructed FAA to publish a final rule within 240 days, as appropriate. Meeting that deadline will require extraordinary measures that do not make it practicable to extend the comment period or subdivide the NPRM into separate rulemakings. While FAA and TSA recognize the importance of the proposed rule, the agencies find the 60-day comment period provides ample opportunity for commenters to submit complete and thoughtful comments.

Accordingly, FAA and TSA decline to grant the extension requests and the comment period will close at the end of October 6, 2025. Issued under authority provided by 49 U.S.C. 106(f), 114, 44701, 44901, and 44903(b) in Washington, DC.

Brandon Roberts,
Executive Director, Office of Rulemaking, Federal Aviation Administration.
Susan Tashiro,
Acting Executive Assistant Administrator, Operations Support, Transportation Security Administration.

[FR Doc. 2025-18873 Filed 9-26-25; 8:45 am]

BILLING CODE 4910-13-P